DEPARTMENT OF COMMERCE

International Trade Administration

Manufacturing and Services' Manufacture America Initiative and Events

ACTION: Notice of series of regional events and supportive resources to promote growth and retooling in manufacturing.

SUMMARY: The International Trade Administration's Manufacturing and Services Unit is launching a series of regional seminars across the United States titled “Manufacture America: Rethink, Retool and Rebuild to Support Jobs.” Information on federal, state and local resources responsive to U.S. manufacturers' needs will be available at each event.

FOR FURTHER INFORMATION CONTACT: Bruce Harsh at 202-482-4582 or manufactureamerica@trade.gov.

SUPPLEMENTARY INFORMATION: In this era of increasing global competition and rising input costs, U.S. manufacturers seek new ways to remain competitive. By looking at new markets and emerging and growing industries, and by improving processes and equipment to be more productive, efficient and sustainable, companies can find new ideas to become more competitive.

To make these changes, manufacturers require access to capital, technical assistance, market research and advice, worker training and other resources. Many of these resources are available through federal, state and local government agencies as well as universities.

To address these challenges, the Manufacturing and Services division of the International Trade Administration will hold a series of regional manufacturing-focused programs. Manufacture America will link manufacturers to available resources and share best practices and ideas to help manufacturers retool and renew their businesses by exploring new products, markets, processes and sources of finance.

The first Manufacture America event will be held in: Morgantown, West Virginia—July 13, 2010, National Research Center for Coal and Energy, 385 Evansdale Drive, West Virginia University, Morgantown, WV 26506.

Manufacture America will feature strategies to rethink, retool and rebuild through, among other things, modernizing production processes, and making their companies more efficient and sustainable while lowering production costs. They will also learn about entering new market segments or new industries, opportunities for exporting, and resources and funding that are available to help them retool, including technical assistance and financing. Participants will be able to speak with peers who have successfully retooled, discuss issues they are facing with federal, state and local officials, resource providers, and network with each other.

Space will be reserved for manufacturing company leaders, plant managers and other company decision-makers from small and medium-sized U.S. manufacturers and service providers; as many as fifteen spaces included in this reservation will be allotted for municipal, state, and federal employees who wish to register for the event. Other spaces are available to the general public on a first come first serve basis.

In order to attend, participants must pre-register.

Participants will be charged a moderate cost for attending these events.

For more information and to register, please visit: http://www.trade.gov/manufactureamerica.

Dated: June 23, 2010.
Nicole Y. Lamb-Hale,
Assistant Secretary for Manufacturing and Services.

[FR Doc. 2010-15937 Filed 6-30-10; 8:45 am]

BILLING CODE P